DEPARTMENT OF ENERGY

Federal Energy Regulatory Commission

Combined Notice of Filings #1

October 10, 2007.

Take notice that the Commission received the following electric corporate filings:

Docket Numbers: EC07-136-000.

Applicants: NRG Energy, Inc.; Long Beach Generation LLC; Long Beach Peakers LLC.

Description: NRG Energy, Inc et al., submit an application for approval of the disposition of jurisdictional facilities pursuant to section 203 of the Federal Power Act and requests for waivers.

Filed Date: 09/27/2007.

Accession Number: 20071001-0039.

Comment Date: 5 p.m. Eastern Time on Thursday, October 18, 2007.

Take notice that the Commission received the following exempt wholesale generator filings:

Docket Numbers: EG08-2-000.

Applicants: Arlington Wind Power Project LLC.

Description: Notice of self-certification of exempt wholesale generator status of Arlington Wind Power Project LLC.

Filed Date: 10/09/2007.

Accession Number: 20071008-5024.

Comment Date: 5 p.m. Eastern Time on Tuesday, October 30, 2007.

Take notice that the Commission received the following electric rate filings:

Docket Numbers: ER00-1053-020.

Applicants: Maine Public Service Company.

Description: Maine Public Service Company informs FERC of the status of negotiations regarding its 6/15/07 informational filing setting forth the changed open access tariff changes effective 6/1/07.

Filed Date: 10/05/2007.

Accession Number: 20071009-0175.

Comment Date: 5 p.m. Eastern Time on Friday, October 26, 2007.

Docket Numbers: ER02-1173-004; ER02-1336-004; ER06-1265-001.

Applicants: Front Range Power Company, LLC; Vandolah Power Company, LLC; Orlando CoGen Limited, L.P.

Description: Front Range Power Company, LLC et al. submits its Notice of Non-Material Change in Status in connection with the acquisition by USB Americas etc. pursuant to Order 652.

Filed Date: 10/04/2007.

Accession Number: 20071009-0095.

Comment Date: 5 p.m. Eastern Time on Thursday, October 25, 2007.

Docket Numbers: ER05-644-007.

Applicants: PSEG Energy Resources & Trade, LLC.

Description: Informational filing of PSEG Energy Resources & Trade LLC listing planned Project Investments and projected Project Investment costs for CY 2008 with respect to PSEG Fossil LLC's generating units.

Filed Date: 10/01/2007.

Accession Number: 20071001-5094.

Comment Date: 5 p.m. Eastern Time on Monday, October 22, 2007.

Docket Numbers: ER05-1119-004.

Applicants: Doswell Limited Partnership.

Description: PJM and Doswell Limited Partnership, jointly, submitted an Electric Refund Report pursuant to the July 5, 2007, FERC order.

Filed Date: 10/09/2007.

Accession Number: 20071008-5022.

Comment Date: 5 p.m. Eastern Time on Tuesday, October 30, 2007.

Docket Numbers: ER06-615-014.

Applicants: California Independent System Operator Corporation

Description: California Independent System Operator Corporation submits proposed revisions to its Market Redesign and Technology Upgrade to comply with the Paragraph 175 of the June 25 Order.

Filed Date: 10/05/2007.

Accession Number: 20071010-0041.

Comment Date: 5 p.m. Eastern Time on Friday, October 26, 2007.

Docket Numbers: ER06-1178-003; ER06-1179-003

Applicants: SEMASS Partnership

Description: Change in status of SEMASS Partnership.

Filed Date: 10/09/2007.

Accession Number: 20071009-5071.

Comment Date: 5 p.m. Eastern Time on Tuesday, October 30, 2007.

Docket Numbers: ER06-1260-001.

Applicants: Northern Indiana Public Service Company.

Description: Northern Indiana Public Service Company submits an application for expansion of prior limited waivers of codes of conduct with Whiting Clean Energy Inc.

Filed Date: 10/03/2007.

Accession Number: 20071005-0017.

Comment Date: 5 p.m. Eastern Time on Wednesday, October 24, 2007.

Docket Numbers: ER06-1399-003.

Applicants: Sunbury Generation LP.

Description: Sunbury Generation L.P. submits a Notice of Change in Status.

Filed Date: 10/04/2007.

Accession Number: 20071009-0164.

Comment Date: 5 p.m. Eastern Time on Thursday, October 25, 2007.

Docket Numbers: ER07-1102-003

Applicants: PJM Interconnection, L.L.C.

Description: PJM Interconnection, LLC responds to the notice of deficiency issued by FERC on 9/5/07.

Filed Date: 10/05/2007.

Accession Number: 20071009-0165.

Comment Date: 5 p.m. Eastern Time on Friday, October 26, 2007.

Docket Numbers: ER07-1144-001.

Applicants: American Transmission Company LLC.

Description: American Transmission Company, LLC and the Midwest Independent Transmission System Operator, Inc submit a revised Energy Markets Tariff sheets in compliance with FERC's 9/7/07 Order.

Filed Date: 10/05/2007.

Accession Number: 20071010-0042.

Comment Date: 5 p.m. Eastern Time on Friday, October 26, 2007.

Docket Numbers: ER07-1249-002.

Applicants: Lockport Energy Associates, L.P.

Description: Lockport Energy Associates L.P. requests waiver of the sixty day prior notice requirement to allow its tariff to become effective on 10/9/07.

Filed Date: 10/09/2007.

Accession Number: 20071010-0044.

Comment Date: 5 p.m. Eastern Time on Tuesday, October 30, 2007.

Docket Numbers: ER07-1250-001.

Applicants: PowerGrid Systems, Inc.

Description: PowerGrid Systems, Inc. submits a letter of clarification in response to FERC's request for revisions and original Sheet 2 to FERC Electric Tariff, Original Volume 1 to reflect the requirements of Order 697.

Filed Date: 09/28/2007.

Accession Number: 20071003-0022.

Comment Date: 5 p.m. Eastern Time on Friday, October 19, 2007.

Docket Numbers: ER07-1276-000.

Applicants: Niagara Mohawk Power Corporation.

Description: Motion to Withdraw Filing of Service Agreement No. 1156 of Niagara Mohawk Power Corporation.

Filed Date: 10/05/2007.

Accession Number: 20071005-5070.

Comment Date: 5 p.m. Eastern Time on Wednesday, October 17, 2007.

Docket Numbers: ER07-1331-001.

Applicants: Indianapolis Power & Light Company.

Description: Indianapolis Power & Light Company submits revisions to IPL Rate Schedule FERC 21.

Filed Date: 10/09/2007.

Accession Number: 20071010-0045.

Comment Date: 5 p.m. Eastern Time on Tuesday, October 30, 2007.

Docket Numbers: ER07-1356-001.

Applicants: BE Alabama LLC.

Description: BE Alabama LLC submits corrected Revised Substitute Original Sheet 1 and 2 to FERC Electric Tariff, First Revised Volume 1 to replace the 9/7/07 filing of a notice of succession, effective date of 11/6/07.

Filed Date: 10/04/2007.

Accession Number: 20071009-0163.

Comment Date: 5 p.m. Eastern Time on Thursday, October 25, 2007.

Docket Numbers: ER07-1358-001.

Applicants: BE Louisiana LLC.

Description: BE Louisiana, LLC submits Revised Substitute Original Sheet to FERC Electric Tariff, First Revised Volume 1 to replace the tariff sheets submitted on 9/7/07 with notice of succession etc. pursuant to Order 697.

Filed Date: 10/04/2007.

Accession Number: 20071009-0162.

Comment Date: 5 p.m. Eastern Time on Thursday, October 25, 2007.

Docket Numbers: ER07-1386-001.

Applicants: Tatanka Wind Power, LLC.

Description: Amendment to application of Tatanka Wind Power LLC for order accepting market-based rate tariff, granting authorizations and blanket authority, and waiving certain requirements.

Filed Date: 10/05/2007.

Accession Number: 20071010-0043.

Comment Date: 5 p.m. Eastern Time on Monday, October 15, 2007.

Docket Numbers: ER08-17-000.

Applicants: Southern California Edison Company.

Description: Southern California Edison Co. submits an amended Manzana Wind Project Engineering Design, and Procurement Letter Agreement for Early Interconnection Facilities with PPM Energy, Inc.

Filed Date: 10/03/2007.

Accession Number: 20071004-0141.

Comment Date: 5 p.m. Eastern Time on Wednesday, October 24, 2007.

Docket Numbers: ER08-18-000.

Applicants: PacifiCorp.

Description: PacifiCorp submits a Notice of Termination of their Rate Schedule 418 with Public Utility District 1 of Clark County, WA.

Filed Date: 10/03/2007.

Accession Number: 20071004-0142.

Comment Date: 5 p.m. Eastern Time on Wednesday, October 24, 2007.

Docket Numbers: ER08-19-000.

Applicants: Energy Algorithms, LLC.

Description: Energy Algorithms, LLC submits petition for acceptance of FERC Electric Rate Schedule 1.

Filed Date: 10/03/2007.

Accession Number: 20071004-0143.

Comment Date: 5 p.m. Eastern Time on Wednesday, October 24, 2007.

Docket Numbers: ER08-22-000.

Applicants: PJM Interconnection, L.L.C.

Description: PJM Interconnection, LLC submits several revisions to Schedule 2 of the Open Access Transmission Tariff.

Filed Date: 10/04/2007.

Accession Number: 20071005-0006.

Comment Date: 5 p.m. Eastern Time on Thursday, October 25, 2007.

Docket Numbers: ER08-23-000.

Applicants: Massie Power LLC.

Description: Massie Power, LLC submits their FERC Electric Rate Schedule 1 under which they will engage in wholesale electric power and energy transactions as marketer.

Filed Date: 10/04/2007.

Accession Number: 20071005-0005.

Comment Date: 5 p.m. Eastern Time on Thursday, October 25, 2007.

Docket Numbers: ER08-25-000; ER08-26-000.

Applicants: Ocean State Power; Ocean State Power II.

Description: Ocean State Power and Ocean State Power II submits their application for an order accepting rates, OSP FERC Electric Tariff, Original Volume 1 et al.

Filed Date: 10/04/2007.

Accession Number: 20071005-0003.

Comment Date: 5 p.m. Eastern Time on Thursday, October 25, 2007.

Docket Numbers: ER08-27-000.

Applicants: New York State Electric & Gas Corporation.

Description: New York State Electric & Gas Corporation submits Original Service Agreement 1159 with Lockport Energy Associates, LP under the Service Agreement.

Filed Date: 10/04/2007.

Accession Number: 20071009-0168.

Comment Date: 5 p.m. Eastern Time on Thursday, October 25, 2007.

Docket Numbers: ER08-28-000.

Applicants: Puget Sound Energy, Inc.

Description: Puget Sound Energy, Inc submits revisions to Original Sheet 22A et al. to FERC Electric Tariff, Eighth Revised Volume 7.

Filed Date: 10/05/2007.

Accession Number: 20071009-0167.

Comment Date: 5 p.m. Eastern Time on Friday, October 26, 2007.

Docket Numbers: ER08-29-000.

Applicants: Pacific Gas and Electric Company.

Description: Pacific Gas and Electric Company submits filing and acceptance amendments to two interconnection Agreements with Northern California Power Agency.

Filed Date: 10/05/2007.

Accession Number: 20071009-0166.

Comment Date: 5 p.m. Eastern Time on Friday, October 26, 2007.

Docket Numbers: ER08-30-000.

Applicants: Wisconsin Public Service Corporation.

Description: Wisconsin Public Service Corp submits a contract with Forward Energy LLC and on 10/9/07 submit the execution pages of the Integration Contract between itself and Forward Energy, LLC.

Filed Date: 10/05/2007; 10/09/2007.

Accession Number: 20071010-0039; 20071010-0047.

Comment Date: 5 p.m. Eastern Time on Friday, October 26, 2007.

Docket Numbers: ER08-31-000.

Applicants: Entergy Services, Inc.

Description: Entergy Services Inc, on behalf of Entergy Gulf States Inc et al. submits an agreement under Service Schedule MSS-4 of the Entergy System Agreement.

Filed Date: 10/05/2007.

Accession Number: 20071010-0040.

Comment Date: 5 p.m. Eastern Time on Friday, October 26, 2007.

Take notice that the Commission received the following foreign utility company status filings:

Docket Numbers: FC08-1-000.

Applicants: Macquarie Bank Limited.

Description: Macquarie Notice of Self-Certification of Foreign Utility Company Status.

Filed Date: 10/10/2007.

Accession Number: 20071009-5131.

Comment Date: 5 p.m. Eastern Time on Wednesday, October 31, 2007.

Take notice that the Commission received the following open access transmission tariff filings:

Docket Numbers: OA08-2-000.

Applicants: Kansas City Power & Light Company.

Description: Request for Waiver of Kansas City Power & Light Company.

Filed Date: 10/09/2007.

Accession Number: 20071009-5048.

Comment Date: 5 p.m. Eastern Time on Tuesday, October 30, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-20391 Filed 10-16-07; 8:45 am]

BILLING CODE 6717-01-P